DEPARTMENT OF THE INTERIOR

Fish and Wildlife Service

[FWS-R7-MM-2014-N014; FF07CAMM00 FXFR133707PB000]

Information Collection Request Sent to the Office of Management and Budget (OMB) for Approval; Incidental Take of Marine Mammals During Specified Oil and Gas Industry Activities

AGENCY: Fish and Wildlife Service, Interior.

ACTION: Notice; request for comments.

SUMMARY: We (U.S. Fish and Wildlife Service) have sent an Information Collection Request (ICR) to OMB for review and approval. We summarize the ICR below and describe the nature of the collection and the estimated burden and cost. This information collection is scheduled to expire on January 31, 2014. We may not conduct or sponsor and a person is not required to respond to a collection of information unless it displays a currently valid OMB control number. However, under OMB regulations, we may continue to conduct or sponsor this information collection while it is pending at OMB.

DATES: You must submit comments on or before February 27, 2014.

ADDRESSES: Send your comments and suggestions on this information collection to the Desk Officer for the Department of the Interior at OMB-OIRA at (202) 395-5806 (fax) or OIRA_Submission@omb.eop.gov (email). Please provide a copy of your comments to the Service Information Collection Clearance Officer, U.S. Fish and Wildlife Service, MS 2042-PDM, 4401 North Fairfax Drive, Arlington, VA 22203 (mail), or hope_grey@fws.gov (email). Please include “1018-0070” in the subject line of your comments.

FOR FURTHER INFORMATION CONTACT: To request additional information about this ICR, contact Hope Grey at hope_grey@fws.gov (email) or 703-358-2482 (telephone). You may review the ICR online at http://www.reginfo.gov. Follow the instructions to review Department of the Interior collections under review by OMB.

SUPPLEMENTARY INFORMATION: OMB Control Number: 1018-0070.

Title: Incidental Take of Marine Mammals during Specified Oil and Gas Industry Activities, 50 CFR 18.27 and 50 CFR part 18, Subparts I and J.

Service Form Number(s): None.

Type of Request: Revision of a currently approved collection.

Description of Respondents: Oil and gas industry companies.

Respondent's Obligation: Required to obtain or retain a benefit (incidental take regulations and/or a Letter of Authorization (LOA)).

Estimated Number of Respondents: 20.

Frequency of Collection: On occasion.

Activity | Number of annual responses | Completion time per response (hours) | Total annual burden hours
Application for procedural regulations ¹ | 2 | 150 | 300
LOA Requests | 25 | 24 | 600
Onsite Monitoring and Observation Reports | 300 | 1.5 | 450
Final Monitoring Report | 25 | 10 | 250
Polar Bear Den Detection Survey and Report | 4 | 50 | 200
Totals | 356 |  | 1,800
¹ Occurs once every 5 years.

Abstract: This information collection includes requirements associated with specified oil and gas industry activities and their incidental taking of polar bears and Pacific walruses in the Beaufort and Chukchi Seas. The Marine Mammal Protection Act (MMPA) of 1972, as amended (16 U.S.C. 1361 et seq.), imposed, with certain exceptions, a moratorium on the taking of marine mammals. Section 101(a)(5)(A) of the MMPA directs the Secretary of the Interior to allow, upon request by citizens of the United States, the taking of small numbers of marine mammals incidental to specified activities (other than commercial fishing) if the Secretary makes certain findings and prescribes specific regulations that, among other things, establish permissible methods of taking.

Applicants seeking to conduct activities must request an LOA for the specific activity and submit onsite monitoring reports and a final report of the activity to the Secretary. This is a nonform collection. Regulations at 50 CFR 18.27 outline the procedures and requirements for submitting a request. Specific regulations governing authorized activities in the Beaufort Sea are in 50 CFR part 18, subpart J. Regulations governing authorized activities in the Chukchi Sea are in 50 CFR part 18, subpart I. These regulations provide the applicant with a detailed description of information that we need to evaluate the proposed activity and determine whether or not to issue specific regulations and, subsequently, LOAs.

We use the information to verify the finding required to issue incidental take regulations, to decide if we should issue an LOA, and, if issued, what conditions should be in the LOA. In addition, we analyze the information to determine impacts to polar bears and Pacific walruses and the availability of those marine mammals for subsistence purposes of Alaska Natives.

Comments: On October 3, 2013, we published in the Federal Register (78 FR 61379) a notice of our intent to request that OMB renew approval for this information collection. In that notice, we solicited comments for 60 days, ending on December 2, 2013. We received two comments.

One commenter expressed opposition to authorization of activities for the oil and gas industry. We note the concerns raised by this individual; however, we do not grant authorization for industry activities. Instead, we are required under section 101(a)(5)(A) of the MMPA to take certain actions with regard to the “incidental taking” of marine mammals that may result from specified activities. The regulations at 50 CFR 18.27(c) define incidental, but not intentional, taking as “takings which are infrequent, unavoidable, or accidental. It does not mean that the taking must be unexpected.” The commenter did not address the information collection requirements, and we did not make any changes to our information collection.

The other commenter expressed support for the information collection process. The commenter stated that the specified information allowed the Service “to make the required findings for issuing the appropriate authorizations for the incidental taking of marine mammals under the statute and implementing regulations, and ensures permittee compliance with specific monitoring and reporting measures.” The information also helped “to provide a better understanding of the types of effects the oil and gas industry activities are having on polar bear and walrus populations and the effectiveness of mitigation and monitoring requirements.”

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: January 22, 2014.
Tina A. Campbell,
Chief, Division of Policy and Directives Management, U.S. Fish and Wildlife Service.

[FR Doc. 2014-01477 Filed 1-27-14; 8:45 am]

BILLING CODE 4310-55-P